DEPARTMENT OF HEALTH AND HUMAN SERVICES

Centers for Medicare & Medicaid Services

[Document Identifier: CMS-855R, CMS-10394, CMS-10371, CMS-10472 and CMS-10494]

Agency Information Collection Activities: Submission for OMB Review; Comment Request

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by May 20, 2015.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 OR, Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Revision of a currently approved collection; Title of Information Collection: Medicare Enrollment Application: Reassignment of Medicare Benefits; Use: The primary function of the CMS 855R enrollment application is to allow physicians and non-physician practitioners to reassign their Medicare benefits to a group practice and to gather information from the individual that tells us who he/she is, where he or she renders services, and information necessary to establish correct claims payment. The goal of periodically evaluating and revising the CMS-855R enrollment application is to simplify and clarify the information collection without jeopardizing our need to collect specific information. At this time, CMS is making very few minor revisions to the CMS-855R (Reassignment of Benefits) Medicare enrollment application (OMB No. 0938-1179). Two sections within the form are being reversed to maintain sync with online and paper forms. The previously approved CMS 855R section 2 collected information regarding the individual practitioner who is reassigning benefits and section 3 collected information regarding the organization/group receiving the reassigned benefits. These two sections have been reversed so that section 2 now collects information on the regarding the organization/group receiving the reassigned benefits and section 3 now collects information on the individual practitioner who is reassigning benefits. No information or data collection within these sections was revised. The sections were merely re-sequenced and re-numbered to maintain sync between online and paper forms. With the exception of this section reversal and adding the word “optional” to sections 4 and 5 (primary practice location and contact person information), there are no other revisions. These revisions offer no new data collection in this revision package. The addition of the optional choice in sections 4 and 5 could potentially reduce the burden to providers who choose not to complete either or both optional sections. Form Number: CMS-855R (OMB control number 0938-1179); Frequency: Occasionally; Affected Public: State, Local, or Tribal Governments, Private sector (For-profit and Not-for-profit institutions); Number of Respondents: 379,619; Total Annual Responses: 379,619; Total Annual Hours: 94,905. (For policy questions regarding this collection contact Kim McPhillips at 410-786-7278).

2. Type of Information Collection Request: Extension of a currently approved collection; Title of Information Collection: Application to Be a Qualified Entity to Receive Medicare Data for Performance Measurement; Use: Section 10332 of the Patient Protection and Affordable Care Act (ACA) requires the Secretary to make standardized extracts of Medicare claims data under parts A, B, and D available to “qualified entities” for the evaluation of the performance of providers of services and suppliers. The statute provides the Secretary with discretion to establish criteria to determine whether an entity is qualified to use claims data to evaluate the performance of providers of services and suppliers. We are proposing at section 42 CFR 401.703 to evaluate an organization's eligibility across three areas: Organizational and governance capabilities, addition of claims data from other sources (as required in the statute), and data privacy and security. This is the application through which organizations will provide information to CMS to determine whether they will be approved as a qualified entity. Form Number: CMS-10394 (OMB control number: 0938-1144); Frequency: Occasionally; Affected Public: Private sector—Business or other for-profits and Not-for-profit institutions; Number of Respondents: 35; Total Annual Responses: 35; Total Annual Hours: 6,833. (For policy questions regarding this collection contact Kari Gaare at 410-786-8612).

3. Type of Information Collection Request: Revision of a currently approved information collection; Title of Information Collection: Cooperative Agreements to Support Establishment of State-Operated Health Insurance Exchanges; Use: All States (including the 50 States, consortia of States, and the District of Columbia herein referred to as States) had the opportunity under section 1311(b) of the Affordable Care to apply for three types of grants: (1) Planning grants; (2) Early Innovator grants for early development of information technology; and (3) Establishment grants to develop, implement and start-up Marketplaces. As of January 1st, 2015, the Secretary has disbursed over $5.4 billion under this grant program and, as of that date, there were 79 active establishment grants awarded to 28 states. As the State-Based Marketplaces (SBM) and Small Business Health Options Program (SHOP) have matured and moved from the developmental phases to full-operation, the reporting requirements for the states have been modified and streamlined to insure only information necessary to provide effective oversight of their operations by CMS is collected.

Given the innovative nature of Exchanges and the statutorily-prescribed relationship between the Secretary and States in their development and operation, it is critical that the Secretary work closely with States to provide necessary guidance and technical assistance to ensure that States can meet the prescribed timelines, federal requirements, and goals of the statute and the grants awarded to them. Form Number: CMS-10371 (OMB control number: 0938-1119); Frequency: Once; Affected Public: State Government agencies, Private sector (Not-for-profit institutions); Number of Respondents: 28; Number of Responses: 48; Total Annual Hours: 31,404. (For policy questions regarding this collection, contact Dena Puskin at (301) 492-4342.)

4. Type of Information Collection Request: Revision of a previously approved information collection; Title of Information Collection: Exchange Functions: Standards for Navigators and Non-Navigator Assistance Personnel; Use: Section 1321(a)(1) of the Affordable Care Act directs and authorizes the Secretary to issue regulations setting standards for meeting the requirements under title I of the Affordable Care Act, with respect to, among other things, the establishment and operation of Exchanges. Pursuant to this authority, regulations have been finalized at 45 CFR 155.215(b)(1) to require Navigators, as well as those non-Navigator personnel to whom 45 CFR 155.215 applies, requires completion of HHS approved training for initial certification and annual recertification prior to providing application and enrollment assistance. The training will include an optional training quality survey providing Navigators and non-Navigator assistance personnel to whom 45 CFR 155.215 applies, an opportunity to provide feedback to CMS regarding the training and any improvements that can be made in the future. Form Number: CMS-10472 (OMB control number. 0938-1220); Frequency: On Occasion; Affected Public: State, Local, or Tribal Governments, Private sector (Not-for-profit institutions), Individuals or Households; Number of Respondents: 5,610; Number of Responses: 5,610; Total Annual Hours: 37,036. (For policy questions regarding this collection, contact Heather Raeburn at 301-492-4224.)

5. Type of Information Collection Request: Revision of a previously approved information collection; Title of Information Collection: Patient Protection and Affordable Care Act; Consumer Assistance Tools and Programs of an Exchange and Certified Application Counselors; Exchange and Insurance Market Standards for 2015; Use: Section 1321(a)(1) of the Affordable Care Act directs and authorizes the Secretary to issue regulations setting standards for meeting the requirements under title I of the Affordable Care Act, with respect to, among other things, the establishment and operation of Exchanges. Pursuant to this authority, regulations establishing the certified application counselor program have been finalized at 45 CFR 155.225. In accordance with 155.225(d)(1) and (7), certified application counselors in all Exchanges are required to be initially certified and recertified on at least an annual basis and successfully complete Exchange-required training. Form Number: CMS-10494 (OMB control number: 0938-1205); Frequency: On Occasion; Affected Public: State, Local, or Tribal Governments, Private sector (Not-for-profit institutions), Individuals or Households; Number of Respondents: 35,000; Number of Responses: 190,000; Total Annual Hours: 27,110. (For policy questions regarding this collection, contact Tricia Beckmann at 301-492-4328.)

Dated: April 15, 2015.
William N. Parham, III,
Director, Paperwork Reduction Staff, Office of Strategic Operations and Regulatory Affairs.

[FR Doc. 2015-09009 Filed 4-17-15; 8:45 am]

BILLING CODE 4120-01-P